DEPARTMENT OF TRANSPORTATION

Federal Aviation Administration

14 CFR Part 39

[Docket No. FAA-2007-28245; Directorate Identifier 2007-CE-047-AD; Amendment 39-15608; AD 2008-14-13]

RIN 2120-AA64

Airworthiness Directives; Cirrus Design Corporation Model SR20 and SR22 Airplanes

AGENCY: Federal Aviation Administration (FAA), Department of Transportation (DOT).

ACTION: Final rule.

SUMMARY: We are adopting a new airworthiness directive (AD) for certain Cirrus Design Corporation (CDC) Models SR20 and SR22 airplanes. This AD requires you to replace the cabin door rod ends with new parts including a redesigned non-binding hinge pin that replaces the existing pin at the upper door hinge. This AD results from two known occurrences of in-flight cabin door separation (one total separation and one retained by the door strut). The rod ends, a component of the door hinges, may fail and result in a door separation from the airplane while in flight. We are issuing this AD to prevent in-flight failure of the cabin door, which could result in door separation from the airplane.

DATES: This AD becomes effective on August 14, 2008.

On August 14, 2008, the Director of the Federal Register approved the incorporation by reference of certain publications listed in this AD.

ADDRESSES: For service information identified in this AD, contact Cirrus Design Corporation, 4515 Taylor Circle, Duluth, Minnesota 55811; telephone: (218) 727-2737; Internet address: www.cirrusdesign.com.

To view the AD docket, go to U.S. Department of Transportation, Docket Operations, M-30, West Building Ground Floor, Room W12-140, 1200 New Jersey Avenue, SE., Washington, DC 20590, or on the Internet at http://www.regulations.gov. The docket number is FAA-2007-28245; Directorate Identifier 2007-CE-047-AD.

FOR FURTHER INFORMATION CONTACT: Wess Rouse, Aerospace Engineer, Chicago Aircraft Certification Office (ACO), 2300 East Devon Avenue, Room 107, Des Plaines, Illinois 60018; telephone: (847) 294-8113; fax: (847) 294-7834.

SUPPLEMENTARY INFORMATION:

Discussion

On March 26, 2008, we issued a proposal to amend part 39 of the Federal Aviation Regulations (14 CFR part 39) to include an AD that would apply to certain SR20 and SR22 airplanes. This proposal was published in the Federal Register as a supplemental notice of proposed rulemaking (NPRM) on April 2, 2008 (73 FR 17935). The NPRM proposed to replace the cabin door rod ends with new parts including a redesigned non-binding hinge pin that replaces the existing pin at the upper door hinge.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that the AD affects 2,308 airplanes in the U.S. registry.

The costs vary from 3.5 work-hours to incorporate Cirrus Kit 70186-004 and 2.5 work-hours to incorporate Cirrus Kit 70186-005. Parts cost for either kit is $270. For the purposes of this AD, we will use 3.5 work-hours for all airplanes. Based on this, the cost of this AD is:

Labor cost | Parts cost | Total cost per airplane | Total fleet cost
3.5 work-hours × $80 per hour = $280 | $270 | $550 | $1,269,400

Note: CDC will provide warranty credit to the extent noted in CDC Service Bulletin 2X-52-07 R4, dated January 24, 2008.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-28245; Directorate Identifier 2007-CE-047-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2008-14-13 Cirrus Design Corporation: Amendment 39-15608; Docket No. FAA-2007-28245; Directorate Identifier 2007-CE-047-AD.

Effective Date

(a) This AD becomes effective on August 14, 2008.

Affected ADs

(b) None.

Applicability

(c) This AD applies to the following airplane models and serial numbers that are certificated in any category:

Models | Serial Nos.
SR20 | 1423 through 1906.
SR22 | 0795 and 0820 through 2912.

Unsafe Condition

(d) This AD results from two known occurrences of in-flight cabin door separation (one total separation and one retained by the door strut). We are issuing this AD to prevent in-flight failure of the cabin door, which could result in door separation from the airplane.

Compliance

(e) Unless already done, within the next 50 hours time-in-service (TIS) after August 14, 2008 (the effective date of this AD) or within 180 days after August 14, 2008 (the effective date of this AD), whichever occurs first, following Cirrus Design Corporation Service Bulletin SB 2X-52-07 R4, dated January 24, 2008, do one of the following:

(1) If threaded sleeve is installed at the cabin door rod end, install cabin door rod end Kit 70186-004.

(2) If threaded sleeve is not installed at the cabin door rod end, install cabin door rod end Kit 70186-005.

Alternative Methods of Compliance (AMOCs)

(f) The Manager, Chicago Aircraft Certification Office (ACO), FAA, has the authority to approve AMOCs for this AD, if requested using the procedures found in 14 CFR 39.19. Send information to ATTN: Wess Rouse, Aerospace Engineer, Chicago ACO, 2300 East Devon Avenue, Room 107, Des Plaines, Illinois 60018; telephone: (847) 294-8113; fax: (847) 294-7834. Before using any approved AMOC on any airplane to which the AMOC applies, notify your appropriate principal inspector (PI) in the FAA Flight Standards District Office (FSDO), or lacking a PI, your local FSDO.

Related Information

(g) To get copies of the service information referenced in this AD, contact Cirrus Design Corporation, 4515 Taylor Circle, Duluth, Minnesota 55811, telephone: (218) 788-3000. To view the AD docket, go to the U.S. Department of Transportation, Docket Operations, M-30, West Building Ground Floor, Room W12-140, 1200 New Jersey Avenue, SE., Washington, DC 20590, or on the Internet at http://dms.dot.gov. The docket number is Docket No. FAA-2007-28245; Directorate Identifier 2007-CE-047-AD.

Material Incorporated by Reference

(h) You must use Cirrus Design Corporation Service Bulletin SB 2X-52-07 R4, dated January 24, 2008, to do the actions required by this AD, unless the AD specifies otherwise.

(1) The Director of the Federal Register approved the incorporation by reference of this service information under 5 U.S.C. 552(a) and 1 CFR part 51.

(2) For service information identified in this AD, contact Cirrus Design Corporation, 4515 Taylor Circle, Duluth, Minnesota 55811; telephone: (218) 727-2737; Internet address: www.cirrusdesign.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on July 1, 2008.
John Colomy,
Acting Manager, Small Airplane Directorate, Aircraft Certification Service.

[FR Doc. E8-15474 Filed 7-9-08; 8:45 am]

BILLING CODE 4910-13-P